DEPARTMENT OF THE INTERIOR

Bureau of Land Management

[NM220-1430 EU; NM-109935]

Notice of Realty Action, Sale of Public Land

AGENCY: Bureau of Land Management, Interior.

ACTION: Notice of Realty Action, Sale of Public Land in Santa Fe County, New Mexico.

SUMMARY: The Bureau of Land Management (BLM) proposes a direct (non-competitive) sale of a parcel of public land, 0.52 acres located in Santa Fe County, New Mexico. The described public land has been examined and through the land use planning process has been determined to be suitable for disposal by direct sale pursuant to Section 203 of the Federal Land Policy and Management Act of 1976 (90 Stat. 2750, 43 U.S.C. 1713), as amended, and 43 Code of Federal Regulations 2711.3-3(a)(5), at no less than the appraised fair market value. The sale will resolve the inadvertent trespass by Terry H. Conley.

DATES: Interested parties may submit comments to the Taos Field Office Manager at the address below. Comments must be received not later than October 10, 2006. The land will not be offered for sale until at least 60 days after the date of publication of this notice in the Federal Register. Only written comments will be accepted.

ADDRESSES: Address all written comments concerning this Notice to Sam DesGeorges, Taos Field Office Manager, 226 Cruz Alta Road, Taos, New Mexico 87571.

FOR FURTHER INFORMATION CONTACT: Francina Martinez, Realty Specialist, at the above address or (505) 758-8851.

SUPPLEMENTARY INFORMATION: The following described public land located in Santa Fe County, New Mexico, has been determined to be suitable for sale at not less than fair market value under Section 203 of the Federal Land Policy and Management Act of 1976, as amended (90 Stat. 2750, 43 U.S.C. 1713) and 43 Code of Federal Regulations 2711.3-3(a)(5). It has been determined that these lands are difficult to manage economically as part of the public lands. The BLM is also proposing the sale to resolve the inadvertent trespass.

The parcel is described as:

New Mexico Principal Meridian

Santa Fe County

T. 20 N., R. 9 E.

Section 18, lot 38.

The area described contains 0.52 acres, more or less. The fair market value of this land is determined to be $19,000.00.

The patent, when issued, will contain a reservation to the United States of a right-of-way for ditches and canals constructed by the authority of the United States pursuant to the Act of August 30, 1890 (43 U.S.C. 945), a reservation for all minerals, and will be issued subject to valid existing rights-of-way and easements.

The parcel is being offered by direct sale to Terry H. Conley of Santa Fe County, New Mexico, based on his historic use and the value of added improvements. The parcel of land has been used as a residence and business site for many years. Failure or refusal by Terry H. Conley to submit the required fair market appraisal amount within 180 days of the offer of the sale of the land will constitute a waiver of this preference consideration.

Upon publication of this notice in the Federal Register, the land described above will be segregated from appropriation under the public land laws, including the general mining laws. The segregation will end upon issuance of patent or 270 days from the date of publication, whichever occurs first. The land will not be offered for sale until at least 60 days after the date of publication of this notice in the Federal Register.

Comments must be received by the BLM Taos Field Manager, Taos Field Office, at the address stated above, on or before the date stated above. Any adverse comments will be reviewed by the Taos Field Manager, who may sustain, vacate or modify this realty action. In the absence of any objections or adverse comments, this proposed realty action will become the final determination of the Department of the Interior. Authority for this proposed direct sale is found in 43 CFR subpart 2710, subpart 2711.3-3.

Dated: July 27, 2006.
John R. Bailey,
Acting Field Office Manager.

[FR Doc. E6-14092 Filed 8-24-06; 8:45 am]

BILLING CODE 4310-FB-P